DEPARTMENT OF ENERGY

[FE Docket No. 14-96-LNG]

Alaska LNG Project LLC; Final Opinion and Order Granting Long-Term Authorization to Export Liquefied Natural Gas To Non-Free Trade Agreement Nations

AGENCY: Office of Fossil Energy, Department of Energy.

ACTION: Record of decision.

SUMMARY: The Office of Fossil Energy (FE) of the Department of Energy (DOE) gives notice of a Record of Decision (ROD) published under the National Environmental Policy Act of 1969 (NEPA) and implementing regulations. This ROD supports DOE/FE's decision in DOE/FE Order No. 3643-A, an opinion and order authorizing Alaska LNG Project LLC to export domestically-produced liquefied natural gas (LNG) to non-free trade agreement countries.

FOR FURTHER INFORMATION CONTACT:

Brian Lavoie, U.S. Department of Energy (FE-34), Office of Regulation, Analysis, and Engagement, Office of Fossil Energy, Forrestal Building, Room 3E-042, 1000 Independence Avenue SW, Washington, DC 20585, (202) 586-2459, Brian.Lavoie@hq.doe.gov

Irene V. Nemesio, U.S. Department of Energy (GC-76), Office of the Assistant General Counsel for Electricity and Fossil Energy, Forrestal Building, 1000 Independence Avenue SW, Washington, DC 20585, (202) 586-8606, Irene.Nemesio@hq.doe.gov

SUPPLEMENTARY INFORMATION: On August 20, 2020, DOE/FE issued Order No. 3643-A to Alaska LNG Project LLC (Alaska LNG) under the Natural Gas Act section 3(a), 15 U.S.C. 717b(a). This Order authorizes Alaska LNG to export LNG produced from Alaskan sources by vessel to any country with which the United States has not entered into a free trade agreement (FTA) requiring national treatment for trade in natural gas, and with which trade is not prohibited by U.S. law or policy (non-FTA countries). Alaska LNG is authorized to export LNG in a volume equivalent to 929 billion cubic feet (Bcf) per year of natural gas (2.55 Bcf/day) from the proposed Alaska LNG Project (Project) to be located in the Nikiski area of the Kenai Peninsula, Alaska.

DOE/FE participated as a cooperating agency with the Federal Energy Regulatory Commission in preparing an environmental impact statement (EIS) analyzing the potential environmental impacts of the proposed Project (including an LNG export terminal, along with the associated facilities and pipeline) that would be used to support the export authorization sought from DOE/FE. DOE adopted the EIS and prepared the ROD, which is attached as an appendix to the Order. The ROD can be found here: https://www.energy.gov/sites/prod/files/2020/08/f77/ord3643a.pdf.

Signed in Washington, DC, on September 3, 2020.
Amy Sweeney,
Director, Office of Regulation, Analysis, and Engagement, Office of Oil and Natural Gas.

[FR Doc. 2020-19920 Filed 9-8-20; 8:45 am]

BILLING CODE 6450-01-P